DEPARTMENT OF THE INTERIOR

Fish and Wildlife Service

50 CFR Part 17

RIN 1018-AH70

Endangered and Threatened Wildlife and Plants; Determinations of Prudency and Proposed Designations of Critical Habitat for Plant Species From the Islands of Maui and Kahoolawe, Hawaii

AGENCY: Fish and Wildlife Service, Interior.

ACTION: Proposed rule; reopening of comment period, and public hearing announcement.

SUMMARY: The U.S. Fish and Wildlife Service (Service) gives notice of a public hearing on the prudency determinations for 38 plants, and the proposed critical habitat designations for 50 plants from the islands of Maui and Kahoolawe, Hawaii. In addition, the comment period which originally closed on February 16, 2001, will be reopened. The new comment period and hearing will allow all interested parties to submit oral or written comments on the proposal. We are seeking comments or suggestions from the public, other concerned agencies, the scientific community, industry, or any other interested parties concerning the proposed rule. Comments already submitted on the proposed rule need not be resubmitted as they will be fully considered in the final determination.

DATES: The comment period for this proposal now closes on April 2, 2001. Any comments received by the closing date will be considered in the final decision on this proposal. The public hearing will be held from 1:00 p.m. to 3:00 p.m. and 6:00 p.m. to 8:00 p.m. on March 20, 2001, on the island of Maui, Hawaii. Prior to the public hearing, the Service will be available from 12:30 to 1:00 p.m. and from 5:30 p.m. to 6:00 p.m. to provide information and to answer questions. The Service will also be available for questions after each hearing session.

ADDRESSES: Comments and materials concerning this proposal should be sent to the Field Supervisor, U.S. Fish and Wildlife Service, Pacific Islands Ecoregion Office, 300 Ala Moana Boulevard, Room 3-122, P.O. Box 50088, Honolulu, Hawaii 96850. Comments and materials received will be available for public inspection, by appointment, during normal business hours at the above address.

The public hearing will be held at the Renaissance Wailea Beach Resort, Wailea Ballroom, 3550 Wailea Alanui Drive, Wailea, Hawaii.

FOR FURTHER INFORMATION CONTACT: Paul Henson, at the above address, phone 808-541-3441, facsimile 808-541-3470.

SUPPLEMENTARY INFORMATION:

Background

On December 18, 2000, the Service published notice of prudency determinations for 38 plant species and proposed designations of critical habitat for 50 plant species from the islands of Maui and Kahoolawe, Hawaii, pursuant to the Endangered Species Act of 1973, as amended (Act) in the Federal Register (65 FR 79192). The original comment period closed on February 16, 2001. The comment period now closes on April 2, 2001. Written comments should be submitted to the Service (see ADDRESSES section).

A total of 69 species historically found on Maui and Kahoolawe were listed as endangered or threatened species under the Act between 1991 and 1999. Some of these species may also occur on other Hawaiian islands. At the time each plant was listed, with the exception of six species, we determined that designation of critical habitat was not prudent because designation would increase the degree of threat to the species and/or would not benefit the species. We determined that designation of critical habitat was prudent for Clermontia samuelii, Cyanea copelandii ssp. haleakalaensis, Cyanea glabra, Cyanea hamatiflora ssp. hamatiflora, Dubautia plantaginea ssp. humilis, and Kanaloa kahoolawensis at the time of their listing in 1999.

Due to litigation, we reconsidered our previous prudency determinations for 63 plants. From this review, we are proposing that critical habitat is prudent for 37 of these species because the potential benefits of designating critical habitat essential for the conservation of these species outweigh the risks of designation. We are proposing that the designation of critical habitat is not prudent for one species, Acaena exigua, because such designation would be of no benefit to this species, which may be extinct and for which no genetic material is currently known. In another proposed rule we determined that critical habitat was prudent for 11 species that occur on Maui and/or Kahoolawe as well as on Kauai (65 FR 66808). The remaining 14 species historically found on Maui and/or Kahoolawe, no longer occur on these islands. However, these species do occur on other islands, so proposed prudency determinations will be made in future rules addressing plants on those islands.

This proposed rule also proposes designation of critical habitat for 50 plant species. Fifty-two critical habitat units, covering 13,574 hectares (33,614 acres) on Maui and 4 units covering 207 hectares (512 acres) on Kahoolawe are proposed for designation.

Section 4(b)(5)(E) of the Act (16 U.S.C. 1531 et seq.), requires that a public hearing be held if it is requested within 45 days of the publication of a proposed rule. In response to a request from a government agency of the State of Hawaii, the Service will hold a public hearing on the date and at the address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the public hearing will be published in newspapers concurrently with the Federal Register notice.

Comments from the public regarding the accuracy of this proposed rule are sought, especially regarding:

(1) The reasons why critical habitat for any of these species is prudent or not prudent;

(2) The reasons why any particular area should or should not be designated as critical habitat for any of these species;

(3) Specific information on the amount and distribution of habitat for any of these species;

(4) Land use practices and current or planned activities in the subject areas and their possible impacts on proposed critical habitat;

(5) Any economic or other relevant impacts resulting from the proposed designations of critical habitat, including any impacts on small entities or families; and

(6) Economic and other potential values associated with designating critical habitat for the 50 plant species such as those derived from non-consumptive uses (e.g., hiking, camping, birding, enhanced watershed protection, increased soil retention, “existence values”, and reductions in administrative costs).

Reopening of the comment period will enable the Service to respond to the request for a public hearing on the proposed action. The comment period on this proposal now closes on April 2, 2001. Written comments should be submitted to the Service office listed in the ADDRESSES section.

Author

The primary authors of this notice are Christa Russell and Michelle Stephens (see ADDRESSES section).

Authority: The authority for this action is the Endangered Species Act of 1973 (16 U.S.C. 1531 et seq.).

Dated: February 13, 2001.
Rowan W. Gould,
Acting Regional Director, Region 1, Fish and Wildlife Service.

[FR Doc. 01-4379 Filed 2-21-01; 8:45 am]

BILLING CODE 4310-55-P